NATIONAL SCIENCE FOUNDATION

Notice of Permit Application Received Under the Antarctic Conservation Act of 1978

AGENCY: National Science Foundation.

ACTION: Notice of permit applications received under the Antarctic Conservation Act.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

Notice is hereby given that the National Science Foundation (NSF) has received a waste management permit application for operation of a Firefly aircraft on a solo flight to the South Pole. The application is submitted to NSF pursuant to regulations issued under the Antarctic Conservation Act of 1978.

DATES: Interested parties are invited to submit written data, comments, or views with respect to this permit application by September 24, 2004. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene Kennedy at the above address or (703) 292-8030.

SUPPLEMENTARY INFORMATION: The National Science Foundation, as directed by the Antarctic Conservation Act of 1978 (Pub. L. 95-541), as amended by the Antarctic Science, Tourism and Conservation Act of 1996, has developed Antarctic Waste Regulations, 45 CFR part 671, that requires all U.S. citizens and entities to obtain a permit for the use or release of a designated pollutant in Antarctica, and for the release of waste in Antarctica.

The waste permit applications received are as follows:

1. Applicant: Gustavus A. McLeod, 21717 Glendalough Road, Gaithersburg, MD 20882. Permit Application No. 2005 WM-002.

Activity for Which Permit is Requested: The applicant is an aviator and leader of an expedition to fly to the South Pole and Makes this application for a Waste Management Permit for the use and release of designated pollutants. The applicant plans to fly solo in a Firefly aircraft from South America, land at Marambio Station to refuel, then fly round-trip to South Pole returning to Marambio, then onward to South America. Other than Marambio Station the applicant does not plan to make other landings in Antarctica and will not establish any camps.

Location: Antarctic continent.

Dates: November 1, 2004 to February 15, 2005.

Nadene G. Kennedy,
Permit Officer.

[FR Doc. 04-19395 Filed 8-24-04; 8:45 am]

BILLING CODE 7555-01-M